DEPARTMENT OF TRANSPORTATION

Federal Aviation Administration

14 CFR Part 39

[Docket No. FAA-2009-0446; Directorate Identifier 2009-CE-024-AD; Amendment 39-15960; AD 2009-14-10]

RIN 2120-AA64

Airworthiness Directives; EADS-PZL “Warszawa-Okęcie” S.A. Model PZL-104 WILGA 80 Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

An inspection of a PZL-104 aeroplane that had a relatively long operational background revealed a severe corrosion of the steel front fuselage structural elements.

It is likely that such corrosion can also be present on other aeroplanes of similar design and operational history.

If left uncorrected, this condition could lead to loss of strength of the structural front posts elements and consequent reduction of the structural strength of the aeroplane.

We are issuing this AD to require actions to correct the unsafe condition on these products.

DATES: This AD becomes effective August 12, 2009.

On August 12, 2009, the Director of the Federal Register approved the incorporation by reference of PZL-104 Wilga 80 Maintenance Manual, pages 5-4 and 25-10, dated April 7, 2009, listed in this AD.

As of May 18, 2009 (74 FR 18979; April 27, 2009), the Director of the Federal Register approved the incorporation by reference of EADS-PZL “Warszawa-Okęcie” S.A. Mandatory Bulletin No. 10409036, dated March 18, 2009, listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

FOR FURTHER INFORMATION CONTACT: Doug Rudolph, Aerospace Engineer, 901 Locust, Room 301, Kansas City, Missouri 64106; telephone: (816) 329-4059; fax: (816) 329-4090.

SUPPLEMENTARY INFORMATION:

Discussion

We issued a notice of proposed rulemaking (NPRM) to amend 14 CFR part 39 to include an AD that would apply to the specified products. That NPRM was published in the Federal Register on May 12, 2009 (74 FR 22127), and proposed to supersede AD 2009-09-04, Amendment 39-15890 (74 FR 18979, April 27, 2009). That NPRM proposed to correct an unsafe condition for the specified products. The MCAI states that:

An inspection of a PZL-104 aeroplane that had a relatively long operational background revealed a severe corrosion of the steel front fuselage structural elements.

It is likely that such corrosion can also be present on other aeroplanes of similar design and operational history.

If left uncorrected, this condition could lead to loss of strength of the structural front posts elements and consequent reduction of the structural strength of the aeroplane.

For the reason stated above, this Airworthiness Directive (AD) mandates inspecting the fuselage front posts, repairing any corrosion found and replacing pads made of foam rubber by pads made of Neoprene to prevent water ingression.

The Administrative Procedure Act does not permit including long-term requirements in an urgent safety of flight action where the rule becomes effective at the same time the public has the opportunity to comment. We analyzed the short-term action and the long-term actions of the MCAI separately to determine the necessity of public notice. Therefore, AD 2009-09-04 addressed the initial short-term inspection requirement of the MCAI, but we did not include the required long-term repetitive inspections in the immediately adopted rule. We proposed the long-term repetitive inspections in the NPRM to allow public comment.

The NPRM retained the short-term initial inspection and proposed the mandatory long-term action of repetitively inspecting the fuselage front posts through a revision to the airplane maintenance program.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 26 products of U.S. registry. We also estimate that it will take about 50 work-hours per product to comply with the basic requirements of this AD. The average labor rate is $80 per work-hour. Required parts will cost about $150 per product.

Based on these figures, we estimate the cost of this AD to the U.S. operators to be $107,900 or $4,150 per product.

In addition, we estimate that any necessary follow-on actions would take about 10 work-hours and require parts costing $0, for a cost of $800 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15890 (74 FR 18979; April 27, 2009) and adding the following new AD:

2009-14-10 EADS-PZL Warszawa-Okecie S.A.: Amendment 39-15960; Docket No. FAA-2009-0446; Directorate Identifier 2009-CE-024-AD.

Effective Date

(a) This airworthiness directive (AD) becomes effective August 12, 2009.

Affected ADs

(b) This AD supersedes AD 2009-09-04, Amendment 39-15890.

Applicability

(c) This AD applies to Model PZL-104 WILGA 80 airplanes, all serial numbers, certificated in any category.

Subject

(d) Air Transport Association of America (ATA) Code 53: Fuselage.

Reason

(e) The mandatory continuing airworthiness information (MCAI) states:

An inspection of a PZL-104 aeroplane that had a relatively long operational background revealed a severe corrosion of the steel front fuselage structural elements.

It is likely that such corrosion can also be present on other aeroplanes of similar design and operational history.

If left uncorrected, this condition could lead to loss of strength of the structural front posts elements and consequent reduction of the structural strength of the aeroplane.

For the reason stated above, this Airworthiness Directive (AD) mandates inspecting the fuselage front posts, repairing any corrosion found and replacing pads made of foam rubber by pads made of Neoprene to prevent water ingression.

Actions and Compliance

(f) Unless already done, do the following actions:

(1) Within 12 years from date of manufacture or within the next 2 months after May 18, 2009 (the effective date of AD 2009-09-04), whichever occurs later, inspect the fuselage front posts for signs of corrosion following paragraph 6.A. of EADS PZL “Warszawa-Okecie” S.A. Mandatory Bulletin No. 10409036, dated March 18, 2009.

(2) If corrosion or any corrosion damage is found during the inspection required in paragraph (f)(1) of this AD, before further flight, repair or replace any parts where corrosion or corrosion damage was found in accordance with an FAA-approved repair solution obtained from EADS-PZL “Warszawa-Okęcie” S.A, Aleja Krakowska 110/114, 00-971 Warszawa, Poland; telephone: +48 22 577 22 11; fax: +48 22 577 22 03; e-mail: eadsplz@plz.eads.net.

(3) Within 12 years from date of manufacture or within the next 2 months after May 18, 2009 (the effective date of AD 2009-09-04), whichever occurs later, replace the rear glass padding following paragraph 6.C. of EADS PZL “Warszawa-Okecie” S.A. Mandatory Bulletin No. 10409036, dated March 18, 2009.

(4) Within 2 months after August 12, 2009 (the effective date of this AD), amend the approved operator's airplane maintenance program to incorporate the applicable tasks as described in PZL-104 Wilga 80 Maintenance Manual, pages 5-4 and 25-10, dated April 7, 2009.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to Attn: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) MCAI European Aviation Safety Agency (EASA) AD No.: 2009-0072, dated March 31, 2009, EADS PZL “Warszawa-Okęcie” S.A. Mandatory Bulletin No. 10409036, dated March 18, 2009; and PZL-104 Wilga 80 Maintenance Manual, pages 5-4 and 25-10, dated April 7, 2009, for related information.

Material Incorporated by Reference

(h) You must use EADS PZL “Warszawa-Okęcie” S.A. Mandatory Bulletin No. 10409036, dated March 18, 2009; and PZL-104 Wilga 80 Maintenance Manual, pages 5-4 and 25-10, dated April 7, 2009, to do the actions required by this AD, unless the AD specifies otherwise.

(1) The Director of the Federal Register approved the incorporation by reference of PZL-104 Wilga 80 Maintenance Manual, pages 5-4 and 25-10, dated April 7, 2009, under 5 U.S.C. 552(a) and 1 CFR part 51.

(2) On May 18, 2009 (74 FR 18979; April 27, 2009), the Director of the Federal Register previously approved the incorporation by reference of EADS PZL “Warszawa-Okęcie” S.A. Mandatory Bulletin No. 10409036, dated March 18, 2009.

(3) For service information identified in this AD, contact EADS-PZL “Warszawa-Okęcie” S.A., Aleja Krakowska 110/114, 00-971 Warszawa, Poland; telephone: +48 22 577 22 11; fax: +48 22 577 22 03; e-mail: eadsplz@plz.eads.net; Internet: http://www.eads.net/1024/en/businet/airbus/airbus_military/pzl/pzl.html.

(4) You may review copies of the service information incorporated by reference for this AD at the FAA, Central Region, Office of the Regional Counsel, 901 Locust, Kansas City, Missouri 64106. For information on the availability of this material at the Central Region, call (816) 329-3768.

(5) You may also review copies of the service information incorporated by reference for this AD at the National Archives and Records Administration (NARA). For information on the availability of this material at NARA, call (202) 741-6030, or go to: http://www.archives.gov/federal_register/code_of_federal_regulations/ibr_locations.html.

Issued in Kansas City, Missouri, on June 30, 2009.
Scott A. Horn,
Acting Manager, Small Airplane Directorate, Aircraft Certification Service.

[FR Doc. E9-15917 Filed 7-7-09; 8:45 am]

BILLING CODE 4910-13-P